SECURITIES AND EXCHANGE COMMISSION

Issuer Delisting; Notice of Application To Withdraw From Listing and Registration on the American Stock Exchange LLC; (Amwest Insurance Group, Inc., Common Stock, $.01 Par Value, and Preferred Stock Purchase Rights) File No. 1-9580

July 11, 2001.

Amwest Insurance Group, Inc., a Delaware Corporation (“Issuer”), has filed an application with the Securities and Exchange Commission (“Commission”), pursuant to Section 12(d) of the Securities Exchange Act of 1934 (“Act”) ¹ and Rule 12d2-2(d) thereunder,² to withdraw its Common Stock, $.01 par value, and Preferred Stock Purchase Rights (“Securities”), from listing and registration on the American Stock Exchange LLC (“Amex”).

¹ 15 U.S.C. 78l(d).

² 17 CFR 240.12d2-2(d).

The Issuer has stated in its application that it has met the requirements of Amex Rule 18 by complying with all applicable laws in effect in the state of Delaware, in which it was incorporated, and with the Amex's rules governing an issuer's voluntary withdrawal of a security from listing and registration.

In making the decision to withdraw the Securities from listing on the Exchange, the Issuer considered (i) the Issurer's non-compliance with the Amex maintenance standards concerning the Issuer's net tangible assets; and (ii) the Issuer has sustained substantial losses in relation to its overall operations and its existing financial resources.

In addition, the Issuer states that the Insurance Director of the State of Nebraska placed the Issuer's principal asset, Amwest Surety Insurance Company, in liquidation. The Issuer has no independent operations and no source of funds other than those provided by its subsidiary. The Issuer has not filed with the Commission all of its required periodic reports, including its Form 10-K for the year ending December 31, 2000, due to its inability to complete its audited financial statements. The Issuers does not expect to obtain audited financial statements in the future.

Any interested person may, on or before August 1, 2001 submit by letter to the Secretary of the Securities and Exchange Commission, 450 Fifth Street, NW., Washington, DC 20549-0609, facts bearing upon whether the application has been made in accordance with the rules of the Amex and what terms, if any, should be imposed by the commission for the protection investors. The Commission, based on the information submitted to it, will issue an order granting the application after the date mentioned above, unless the Commission determines to order a hearing on the matter.

For the Commission, by the Division of Market Regulation, pursuant to delegated authority.³

³ 17 CFR 200.30-3(a)(1).

Jonathan G. Katz,
Secretary.

[FR Doc. 01-17795 Filed 7-16-01; 8:45 am]

BILLING CODE 8010-01-M